Title 3—

The President

Proclamation 8081 of November 2, 2006

World Freedom Day, 2006

By the President of the United States of America

A Proclamation

On November 9, 1989, the Berlin Wall was torn down by the desire of a people to be free. On World Freedom Day, we commemorate this historic event and reflect on liberty's power to change lives and raise societies.

After decades of oppression, the fall of the Berlin Wall brought the light of liberty to the people of East Berlin, and the events that followed set the course for a new era of freedom in Germany and in much of Central and Eastern Europe. Today, we again face an ideological struggle with the enemies of freedom, democracy, and moderation. In this struggle, America will continue to stand with those who seek to build societies where people live in freedom and at peace with each other and the world.

The collapse of the Berlin Wall demonstrated that when liberty flourishes, nations become more tolerant, hopeful, and secure. On World Freedom Day, we celebrate the power of freedom and democracy. We are also reminded that free countries have the responsibility to work together to protect the fundamental rights of all people and help others realize the blessings of liberty.

NOW, THEREFORE, I, GEORGE W. BUSH, President of the United States of America, by virtue of the authority vested in me by the Constitution and laws of the United States, do hereby proclaim November 9, 2006, as World Freedom Day. I call upon the people of the United States to observe this day with appropriate ceremonies and activities, reaffirming our dedication to freedom and democracy.

IN WITNESS WHEREOF, I have hereunto set my hand this second day of November, in the year of our Lord two thousand six, and of the Independence of the United States of America the two hundred and thirty-first.

[FR Doc. 06-9132

Filed 11-6-06; 8:45 am]

Billing code 3195-01-P